DEPARTMENT OF JUSTICE

Notice of Lodging of Consent Decree Pursuant to the Clean Water Act

In accordance with Department Policy, 28 CFR, § 50.7, notice is hereby given that on February 13, 2004, a proposed consent decree in United States v. Kanaway Seafoods, Inc., d/b/a Alaska General Seafoods, Docket No. A04-0039 CV (JWS), was lodged with the United States District Court for the District of Alaska. In this action brought pursuant to section 309 of the Clean Water Act, as amended, 33 U.S.C. 1319, the United States has requested the imposition of civil penalties and injunctive relief on the defendant. This action arose out of the operation by Kanaway Seafoods, Inc., d/b/a Alaska General Seafoods (AGS) of its seafood processing facility in Ketchikan, Alaska. The United States has alleged that AGS failed to meet several of the discharge and reporting requirements of its authorization to discharge under the general National Pollutant Discharge Elimination System permit for seafood processors in Alaska (General Permit) on numerous days between January of 1999 and August of 2001, all in violation of section 301 of the Clean Water Act, 33 U.S.C. 1311.

The Consent Decree requires that AGS pay a civil penalty of $110,000 and perform certain injunctive relief at its Ketchikan facility. The injunctive relief provisions of the Consent Decree oblige AGS: (1) During the next two processing seasons, to barge its processing waste to an at-sea discharge location or use an alternate, EPA-approved method of disposal to prevent the discharge of its processing waste to Tongass Narrows; (2) to remediate the seafood waste piles that have accumulated on the seafloor as a result of its past discharges; and (3) to use means necessary to prevent eruptions of those piles.

The Department of Justice will receive for a period of thirty (30) days from the date of this publication comments relating to the proposed consent decree. Comments should be addressed to the Assistant Attorney General, United States Department of Justice, Environment and National Resources Division, Post Office Box, 7611, Ben Franklin Station, Washington, DC 20044-7611 and should refer to United States v. Kanaway Seafood, Inc., d/b/a Alaska General Seafoods, D.J. Ref. #90-5-1-1-07394.

The proposed consent decree may be examined at the office of the United States Attorney, 222 West 7th Avenue, #9, Room 253, Anchorage, Alaska 99513 and at United States EPA Region 10, 1200 Sixth Avenue, Seattle, Washington 98101. During the comment period the consent decree may be examined on the following Department of Justice Web Site, http://www.usdoj.gov/enrd/open.html. A copy of the consent decree may also be obtained by mail from the Consent Decree Library, Post Office Box 7611, Ben Franklin Station, Washington, DC 20044-7611 or by faxing or e-mailing a request to Tonia Fleetwood (tonia.fleetwood@usdoj.gov), fax number (202) 514-0097, telephone confirmation number (202) 514-1547. In requesting a copy by mail, please enclose a check in the amount of $6.00 for United States v. Kanaway Seafoods, Inc. (25 cents per page reproduction cost) payable to the U.S. Treasury.

Robert E. Maher, Jr.,
Assistant Section Chief, Environmental Enforcement Section.

[FR Doc. 04-4763 Filed 3-2-04; 8:45 am]

BILLING CODE 4410-15-M